DEPARTMENT OF COMMERCE

International Trade Administration

[A-428-802; A-475-802; A-599-802; A-588-807]

Revocation of the Antidumping Duty Orders on Industrial Belts From Germany, Italy, Singapore, and Japan

AGENCY: Import Administration, International Trade Administration, Department of Commerce

ACTION: Notice of revocation of antidumping duty orders on industrial belts from Germany, Italy, Singapore, and Japan.

SUMMARY: On December 30, 1999, the Department of Commerce (“the Department”), pursuant to sections 751(c) and 752 of the Tariff Act of 1930, as amended (“the Act”), determined that revocation of the antidumping duty orders on industrial belts from Germany, Italy, Singapore, and Japan would be likely to lead to continuation or recurrence of dumping. See Final Results of Expedited Sunset Reviews: Industrial Belts from Germany, Italy, Singapore, and Japan (“Final Results”), 64 FR 73511 (December 30, 1999). On August 30, 2000, the International Trade Commission (”the Commission”), pursuant to section 751(c) of the Act, determined that revocation of the above antidumping duty orders on industrial belts from Germany, Italy, Singapore, and Japan would not be likely to lead to continuation or recurrence of material injury to an industry in the United States within a reasonably foreseeable time. See Certain Industrial Belts from Germany, Italy, Japan, and Singapore (“ITC Final Results”), 65 FR 52785 (August 30, 2000). Therefore, pursuant to 19 CFR 351.222(i)(1), the Department is publishing this notice of the revocation of the antidumping duty orders on industrial belts from Germany, Italy, Singapore, and Japan.

EFFECTIVE DATE: January 1. 2000.

FOR FURTHER INFORMATION CONTACT: Kathryn B. McCormick or James Maeder, Office of Policy for Import Administration, International Trade Administration, U.S. Department of Commerce, 14th Street and Constitution Ave., NW., Washington, D.C. 20230; telephone: (202) 482-1930 or (202) 482-3330, respectively.

SUPPLEMENTARY INFORMATION

Background

On June 1, 1999, the Department initiated (64 FR 73511), and the Commission instituted (64 FR 29342), sunset reviews of the antidumping duty orders on industrial belts from Germany, Italy, Singapore, and Japan. As a result of its reviews, the Department found that revocation of the antidumping duty orders would likely lead to continuation or recurrence of dumping, and notified the Commission of the magnitude of the margins were the orders revoked.

On August 30, 2000, the Commission determined, pursuant to section 751(c) of the Act, that revocation of the antidumping duty orders on industrial belts from Germany, Italy, Singapore, and Japan would not be likely to lead to continuation or recurrence of material injury to an industry in the United States within a reasonably foreseeable time. See ITC Final Results, 65 FR 48733 (August 9, 2000), and USITC Publication 3341 (August 2000), Investigation Nos. 731-TA-413-415 and 419 (Review).

Scope of the Orders

The merchandise covered by the antidumping duty order on Germany includes industrial belts other than V-belts and synchronous belts used for power transmission, in part or wholly of rubber or plastic, and containing textile fiber (including glass fiber) or steel wire, cord or strand, and whether in endless (i.e., closed loops) belts, or in belting in lengths or links from Germany and Japan.¹ The antidumping duty order on imports from Italy covers industrial V-belts and synchronous belts and components used for power transmission, in part or wholly of rubber or plastic, and containing textile fiber (including glass fiber) or steel wire, cord or strand, and whether in endless (i.e., closed loops) belts, or in belting in length or links.² The antidumping duty order on imports from Singapore includes industrial V-Belts used for power transmission. These include industrial V-belts, in part or wholly of rubber or plastic, and containing textile fiber (including glass fiber) or steel wire, cord or strand, and whether in endless (i.e., closed loops) belts, or in belting in lengths or links.³ The antidumping duty order on imports from Japan covers industrial V-belts and synchronous belts and other industrial belts, in part or wholly of rubber or plastic, and containing textile fiber (including glass fiber) or steel wire, cord or strand, and whether in endless (i.e., closed loops) belts, or in belting in lengths or links.⁴

¹ See Antidumping Duty Order of Sales at Less Than Fair Value; Industrial Belts and Components and Parts Thereof, Whether Cured on Uncured, From the Federal Republic of Germany, 54 FR 25316 (March 17, 1991), and Antidumping Duty Order of Sales at Less Than Fair Value; Industrial Belts and Components and Parts Thereof, Whether Cured or Uncured, From Japan, 54 FR 25314 (June 14, 1989).

² See Antidumping Duty Order of Sales at Less Than Fair Value; Industrial Belts and Components and Parts Thereof, Whether Cured or Uncured, From Italy, 54 FR 25313 (June 14, 1989).

³ See Antidumping Duty Order of Sales at Less Than Fair Value; Industrial Belts and Components and Parts Thereof, Whether Cured or Uncured, From Singapore, 54 FR 25315 (June 14, 1989).

⁴ See Industrial Belts and Components and Parts Thereof, Whether Cured or Uncured, From Japan; Final Results of Antidumping Duty Administrative Review, 60 FR 39929 (August 4, 1995).

The above orders exclude conveyor belts and automotive belts as well as front engine drive belts found on equipment powered by internal combustion engines, including trucks, tractors, buses and lift trucks.

The subject merchandise was classifiable under Tariff Schedules of the United States Annotated (“TSUSA”) item numbers 358.0210, 358.0290, 358.0610, 358.0690, 358.0800, 358.0900, 358.1100, 358.1400, 358.1600, 657.2520, 773.3510, and 773.3520 in the orders for all four countries. Currently, subject merchandise is classifiable under item numbers 3926.90.55, 3926.90.56, 3926.90.57, 3926.90.59, 3926.90.60, 4010.10.10, 4010.10.50, 4010.91.11, 4010.91.15, 4010.91.19, 4010.91.50, 4010.99.11, 4010.99.15, 4010.99.19, 4010.99.50, 5910.00.10, 5910.00.90, and 7326.20.00 of the Harmonized Tariff Schedule of the United States (“HTSUS”).⁵

⁵ Subject merchandise from Germany excludes item numbers 3926.90.55, 4010.10.10, and 4010.10.50; subject merchandise from Singapore excludes item numbers 3926.90.56, 3926.90.57, 3926.90.59, 3926.90.60, 4010.91.11, 4010.91.15, 4010.91.19, 4010.99.11, 4010.99.15, 4010.99.19, and 4010.99.50.

In its substantive response, The Gates Rubber Company (”Gates”) asserts that the HTSUS subheading of Chapter 40 were significantly revised in 1996, and, as a result, the products covered by the orders became classifiable under HTSUS numbers 3626.90.55, 3926.90.56, 3926.90.57, 3926.90.59, 3926.90.60, 4010.21.30, 4010.21.60, 4010.22.30, 4010.22.60, 4010.23.30, 4010.23.41, 4010.23.45, 4010.23.50, 4010.23.90, 4010.24.30, 4010.24.41, 4010.24.45, 4010.24.50, 4010.24.90, 4010.29.10, 4010.29.20, 4010.29.30, 4010.29.41, 4010.29.45, 4010.29.50, 4010.29.90, 5910.00.10, 5910.00.90, and 7326.20.00.⁶ U.S. Customs officials confirmed the accuracy of the HTSUS numbers for subject merchandise suggested by Gates.⁷ However, the above HTSUS and TSUSA subheadings are provided for convenience and customs purposes only and the written description remains dispositive.

⁶ According to Gates, subject merchandise from Germany excludes item numbers 3926.90.55, 4010.21.30, 4010.21.60, 4010.22.30, 4010.22.60, 4010.23.30, 4010.23.41, 4010.23.45, 4010.23.50, 4010.23.90, 4010.24.30, 4010.24.41, 4010.24.45, 4010.24.50, 4010.24.90, 4010.29.10, and 4010.29.20 (see July 1, 1999, Substantive Response of Gates at 3); and subject merchandise from Singapore excludes item numbers 3926.90.56, 3926.90.57, 3926.90.59, 4010.23.30, 4010.23.41, 4010.23.45, 4010.23.50, 4010.23.90, 4010.24.30, 4010.24.41, 4010.24.45, 4010.24.50, 4010.24.90, 4010.29.30, 4010.29.41, 4010.29.45, 4010.29.50, 4010.29.90 for imports (see July 1, 1999, Substantive Response of Gates at 3).

⁷ See December 23, 1999, Memo to File of telephone conversation with George Barthes, U.S. Customs official, regarding new HTSUS numbers for industrial belts.

The Department has made the following scope rulings for the orders on imports from Germany, Italy, and Japan:

With respect to the order on subject imports from Germany, the Department's sole administrative review clarified that the scope of the order includes round belts and flat belts (56 FR 9672, March 7, 1991). Additionally, the Department determined in a 1991 scope ruling that the scope of the order includes nylon core flat belts and excludes spindle belting.⁸

⁸ See Scope Rulings, 56 FR 57320 (November 8, 1991).

With respect to the order on subject imports from Italy, the Department, in the February 24, 1993, Scope Ruling, determined that “Panther” industrial belts from Pirelli Power Corp. are within the scope of the order (58 FR 11209).

With respect to the order on subject imports from Japan, the Department has made several scope rulings. The following products were determined to be within the scope of the order:

Product within scope | Importer | Citation
V-volt model 5L118 | Japan Freight Consolidators (Calif.), Inc | 57 FR 16602 (May 7, 1992).
Closed loop synthetic timing belt used in the Epson LX-800 desk-top personal computer printer | Tower Group International, Inc. and Epson America, Inc | 58 FR 47124 (Sept. 7, 1993).

The following products were determined to be not within the scope of the order:

Product outside scope | Importer | Citation
59011 series of belts | Kawasaki Motors Corp., USA | 57 FR 19692 (May 7, 1992).
Certain round and flat belts which are composed of rubber or plastics but are not reinforced with a tensile member | Matsushita Electric Corp., Matsushita Floor Care Company and Panasonic Company | 57 FR 57420 (December 4, 1992).
Conveyor Belts of five-series comprised of 30 models | Nitta Industries Corp., and Nitta International, Inc | 58 FR 59991 (Nov. 12, 1993).
Eight-drive and blade belts | Honda Power Equipment Manufacturing Inc | 62 FR 30569 (June 4, 1997).
Twenty-two drive and blade belts | American Honda Motor Co | 62 FR 30569 (June 4, 1997).

Determination

As a result of the determination by the Commission that revocation of the antidumping duty orders on industrial belts from Germany, Italy, Singapore, and Japan would not be likely to lead to continuation or recurrence of material injury to an industry in the United States, pursuant to section 751(d)(2) of the Act, the Department hereby orders the revocation of the antidumping duty orders on industrial belts from Germany, Italy, Singapore, and Japan. The Department will instruct the Customs Service to discontinue suspension of liquidation and collection of cash deposits, and to refund any cash deposits collected, on entries of subject merchandise entered or withdrawn from warehouse on or after January 1, 2000 (the effective date). The Department will complete any pending administrative reviews of these orders and will conduct administrative reviews of subject merchandise entered prior to the effective date of revocation in response to appropriately filed requests for review.

Dated: September 6, 2000.
Troy H. Cribb,
Acting Assistant Secretary for Import Administration.

[FR Doc. 00-23396 Filed 9-11-00; 8:45 am]

BILLING CODE 3510-DS-P